DEPARTMENT OF AGRICULTURE

Submission for OMB Review; Comment Request

February 9, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by March 16, 2015 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Baby Squash and Baby Courgettes from Zambia.

OMB Control Number: 0579-0347.

Summary of Collection: Under the Plant Protection Act (7 U.S.C. 7701), the Secretary of Agriculture is authorized to carry out operations or measures to detect, eradicate, suppress, control, prevent, or retard the spread of plant pests new to the United States or not known to be widely distributed throughout the United States. APHIS fruits and vegetables regulations allow the importation into the continental United States of baby squash and baby courgettes from Zambia. As a condition of entry, both commodities would have to be produced in accordance with a systems approach that would include requirements for pest exclusion at the production site, fruit fly trapping inside and outside the production site, and pest excluding packinghouse procedures. Both commodities would also be required to be accompanied by a phytosanitary certificate with an additional declaration stating that the baby squash and baby courgette have been produced in accordance with the proposed requirements.

Need and Use of the Information: APHIS will collect information using the following: Physanitary Certificate, Records and Monitoring, Labeling on Cartons and Inspection of Greenhouses.

Description of Respondents: Business or other for-profits; Federal Government.

Number of Respondents: 2.

Frequency of Responses: Recordkeeping; Reporting: On occasion.

Total Burden Hours: 4.

Animal and Plant Health Inspection Service

Title: Importation of Eggplant from Israel.

OMB Control Number: 0579-0350.

Summary of Collection: Under the Plant and Protection Act (7 U.S.C. 7701), the Secretary of Agriculture is authorized to carry out operation or measures to detect, eradicate, suppress, control, prevent, or retard the spread of plant pests new to the United States not known to be widely distributed throughout the United States. APHIS' fruits and vegetables regulations allow the importation of commercial shipments of fresh eggplant from Israel. As a condition of entry, the eggplant must be grown under a system approach that would include requirements for pest exclusion at the production site, fruit fly trapping inside and outside the production site, and pest-excluding packinghouse procedures.

Need and Use of the Information: APHIS uses the following information activities to allow for the importation of commercial consignments of fresh eggplant from Israel into the United States while continuing to provide protection against the introduction of quarantine pests: Phytosanitary Certificate (foreign) Trapping Records; Inspection of Pest-Exclusionary Structures by Israel NPPO's, Labeling of Boxes, and Approved Pest-Exclusionary Structure. Failure to collect this information would cripple APHIS' ability to ensure that eggplant from Israel is not carrying plant pests.

Description of Respondents: Foreign Government, Business and other for-profit.

Number of Respondents: 2.

Frequency of Responses: Reporting: On occasion.

Total Burden Hours: 5.

Ruth Brown,
Departmental Information Collection Clearance Officer.

[FR Doc. 2015-02988 Filed 2-12-15; 8:45 am]

BILLING CODE 3410-34-P